DEPARTMENT OF TRANSPORTATION

Coast Guard

33 CFR Parts 1, 3, 26, 81, 89, 110, 117, 120, 127, 128, 148, 151, 153, 154, 155, 156, 157, 158, 159, 160, 164, and 165

[USCG-2002-12471]

RIN 2115-AG44

Navigation and Navigable Waters—Technical Amendments, Organizational Changes, Miscellaneous Editorial Changes and Conforming Amendments

AGENCY: Coast Guard, DOT.

ACTION: Final rule.

SUMMARY: This rule makes editorial and technical changes throughout title 33 of the Code of Federal Regulations (CFR) to update the title before it is recodified on July 1, 2002. It updates organization names and addresses, and makes conforming amendments and technical corrections. This rule will have no substantive effect on the regulated public.

DATES: This final rule is effective June 28, 2002.

ADDRESSES: Documents as indicated in this preamble are available for inspection or copying at the Docket Management Facility, (USCG-2002-12471), U.S. Department of Transportation, room PL-401, 400 Seventh Street SW., Washington, DC, 20590-0001, between 9 a.m. and 5 p.m., Monday through Friday, except Federal holidays. You may also find this docket on the Internet at http://dms.dot.gov.

FOR FURTHER INFORMATION CONTACT: If you have questions on this rule, call Robert Spears, Project Manager, Standards Evaluation and Development Division (G-MSR-2), Coast Guard, at 202-267-1099. If you have questions on viewing, or submitting material to, the docket, call Dorothy Beard, Chief, Dockets, Department of Transportation, at 202-366-5149.

SUPPLEMENTARY INFORMATION:

Regulatory Information

We did not publish a notice of proposed rulemaking (NPRM) for this regulation. Under 5 U.S.C. 553(b)(B), the Coast Guard finds that good cause exists for not publishing an NPRM. This rule consists only of corrections and editorial and conforming amendments to title 33 of the Code of Federal Regulations (CFR). These changes will have no substantive effect on the public; therefore, it is not necessary for us to publish an NPRM and providing an opportunity for public comment. Under 5 U.S.C. 553(d)(3), the Coast Guard finds that, for the same reasons, good cause exists for making this rule effective less than 30 days after publication in the Federal Register.

Discussion of the Rule

Each year title 33 of the Code of Federal Regulations is recodified on July 1. This rule makes editorial changes throughout the title, corrects organization names and addresses, and makes other technical and editorial corrections to be included in the recodification. It does not change any substantive requirements of existing regulations. Some editorial changes are discussed individually in the following three paragraphs.

Sections 3.25-10 and 3.25-20. These sections are amended to reflect an administrative change in the boundaries between the two marine inspection and captain of the port zones defined in these sections.

Sections 110.236 and 110.237. These sections are amended to convert geographic coordinates from Old Hawaiian Datum (OHD) to North American Datum 1983 (NAD83). Current charts reference NAD83 and NAD83 is used by the Global Positioning System (GPS).

Section 117.1041. This section is revised to reflect a name change in a bridge.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this rule to be so minimal that a full Regulatory Evaluation under paragraph 10e of the regulatory policies and procedures of DOT is unnecessary. As this rule involves internal agency practices and procedures and non-substantive changes, it will not impose any costs on the public.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraphs (34)(a) and (b) of Commandant Instruction M16475.lD, this rule is categorically excluded from further environmental documentation. These regulations are editorial or procedural and concern internal agency functions and organization. A “Categorical Exclusion Determination” is available in the docket where indicated under ADDRESSES.

List of Subjects

33 CFR Part 1

Administrative practice and procedure, Authority delegations (Government agencies), Freedom of information, Penalties.

33 CFR Part 3

Organization and functions (Government agencies).

33 CFR Part 26

Communications equipment, Marine safety, Radio, Telephone, Vessels.

33 CFR Part 81

Navigation (water), Reporting and recordkeeping requirements, Treaties.

33 CFR Part 89

Navigation (water), Reporting and recordkeeping requirements, Waterways.

33 CFR Part 110

Anchorage grounds.

33 CFR Part 117

Bridges.

33 CFR Part 120

Security, Passenger vessels, Reporting and recordkeeping requirements.

33 CFR Part 127

Fire prevention, Harbors, Natural gas, Reporting and recordkeeping requirements, Security measures.

33 CFR Part 128

Harbors, Reporting and recordkeeping requirements, Security measures, Terrorism.

33 CFR Part 148

Administrative practice and procedure, Environmental protection, Harbors, Petroleum.

33 CFR Part 151

Administrative practice and procedure, Oil pollution, Penalties, Reporting and recordkeeping requirements, Water pollution control.

33 CFR Part 153

Hazardous substances, Oil pollution, Reporting and recordkeeping requirements, Water pollution control.

33 CFR Part 154

Fire prevention, Hazzardous substances, Oil pollution, Reporting and recordkeeping requirements.

33 CFR Part 155

Hazardous substances, Oil pollution, Reporting and recordkeeping requirements.

33 CFR Part 156

Hazardous substances, Oil pollution, Reporting and recordkeeping requirements, Water pollution control.

33 CFR Part 157

Cargo vessels, Oil pollution, Reporting and recordkeeping requirements.

33 CFR Part 158

Administrative practice and procedure, Harbors, Oil pollution, Penalties, Reporting and recordkeeping requirements, Water pollution control.

33 CFR Part 159

Sewage disposal, Vessels.

33 CFR Part 160

Administrative practice and procedure, Harbors, Hazardous materials transportation, Marine safety, Navigation (water), Reporting and recordkeeping requirements, Vessels, Waterways.

33 CFR Part 164

Marine safety, Navigation (water), Reporting and recordkeeping requirements, Seamen, Security measures, Waterways.

33 CFR Part 165

Harbors, Marine safety, Navigation (water), Reporting and recordkeeping requirements, Security measures, Waterways.

For the reasons discussed in the preamble, the Coast Guard amends 33 CFR parts 1, 3, 26, 81, 89, 110, 117, 120, 127, 128, 148, 151 subparts B and D, 153, 154, 155, 156, 157, 158, 159, 160, 164, and 165 as follows:

PART 1—GENERAL PROVISIONS

1. The authority citation for part 1, subpart 1.01, continues to read as follows:

Authority: 14 U.S.C. 633; 33 U.S.C. 401, 491, 525, 1321, 2716, and 2716a; 42 U.S.C. 9615; 49 U.S.C. 322; 49 CFR 1.45(b), 1.46; section 1.01-70 also issued under the authority of E.O. 12580, 3 CFR, 1987 Comp., p. 193; and sections 1.01-80 and 1.01-85 also issued under the authority of E.O. 12777, 3 CFR, 1991 Comp., p. 351.

§ 1.01-70 [Amended]

2. In § 1.01-70, in paragraph (b), remove the words “Marine Safety and Environmental Protection” and add, in their place, the words “Marine Safety, Security and Environmental Protection”.

§ 1.01-80 [Amended]

3. In § 1.01-80, in paragraph (b), remove the words “Marine Safety and Environmental Protection” and add, in their place, the words “Marine Safety, Security and Environmental Protection”.

4. The authority citation for part 1, subpart 1.05, continues to read as follows:

Authority: 5 U.S.C. 552, 553, App. 2; 14 U.S.C. 2, 631, 632, and 633; 33 U.S.C. 471, 499; 49 U.S.C. 101, 322; 49 CFR 1.4(b), 1.45(b), and 1.46.

§ 1.05-1 [Amended]

5. In § 1.05-1, in paragraph (g), remove the words “Marine Safety and Environmental Protection” and add, in their place, the words “Marine Safety, Security and Environmental Protection”.

6. The authority citation for part 1, subpart 1.07, continues to read as follows:

Authority: 14 U.S.C. 633; Sec. 6079(d), Pub. L. 100-690, 102 Stat. 4181; 49 CFR 1.46.

§ 1.07-15 [Amended]

7. In § 1.07-15, in paragraph (c), remove the word “subpenas” and add, in its place, the word “subpoenas”.

§ 1.07-35 [Amended]

8. In § 1.07-35, in paragraph (c)(2), remove the word “subpena” and add, in its place, the word “subpoena”.

§ 1.07-50 [Amended]

9. In § 1.07-50, remove the word “subpena” and add, in its place, the word “subpoena”.

§ 1.07-60 [Amended]

10. In § 1.07-60, paragraph (b), remove the word “and” and add, in its place, the word “an”.

PART 3—COAST GUARD AREAS, DISTRICTS, MARINE INSPECTION ZONES, AND CAPTAIN OF THE PORT ZONES

11. The authority citation for part 3 continues to read as follows:

Authority: 14 U.S.C. 633; 49 CFR 1.45, 1.46.

12. In § 3.25-10, revise paragraph (b) as set forth below:

§ 3.25-10 Hampton Roads Marine Inspection Zone and Captain of the Port Zone.

* * * * *

(b) The boundary of the Hampton Roads Marine Inspection Zone and Captain of the Port Zone starts at the intersection of the Maryland-Delaware boundary and the coast and proceeds along the Maryland-Delaware boundary to a point 75°30.0′ W. longitude; thence southerly to a point 75°30.0′ W. longitude on the Maryland-Virginia boundary, thence westerly along the Maryland-Virginia boundary as it proceeds across the Delmarva Peninsula, Pocomoke River, Tangier and Pocomoke Sounds, and Chesapeake Bay; thence northwesterly along the Maryland-Virginia boundary and the District of Columbia-Virginia boundary as those boundaries are formed along the southern bank of the Potomac River to the intersection of the Virginia-Maryland-West Virginia boundaries; thence southerly along the Virginia-West Virginia boundary and the Virginia-Kentucky boundary to the Tennessee boundary; thence eastward along the Virginia-Tennessee boundary to the Virginia-North Carolina boundary; thence eastward to the sea. The offshore boundary starts at the intersection of the Maryland-Delaware boundary and the coast and proceeds east to a point 38°28.0′ N. latitude, 70°11.0′ W. longitude; thence southeasterly on a line bearing 122°T to the outermost extent of the EEZ; thence southerly along the outermost extent of the EEZ to 36°33.0′ N. latitude, and thence westerly along 36°33.0′ N latitude to the coast at 75°52.0′ W. longitude.

13. In § 3.25-20, revise paragraph (b) as set forth below:

§ 3.25-20 Wilmington Marine Inspection Zone and Captain of the Port Zone.

* * * * *

(b) The boundary of the Wilmington Marine Inspection Zone and Captain of the Port Zone starts at the sea at 36°33.0′ N. latitude, 75°52.0′ W. longitude, and proceeds westerly along the North Carolina-Virginia boundary to the Tennessee boundary; thence southwesterly along the North Carolina-Tennessee boundary to the Georgia boundary; thence easterly along the North Carolina-Georgia boundary to the South Carolina boundary; thence easterly along the South Carolina-North Carolina boundary to the sea. The offshore boundary of the Wilmington Captain of the Port Zone starts at the coast at 36°33.0′ N. latitude; thence proceeds easterly to the outermost extent of the EEZ; thence southerly along the outermost extent of the EEZ to a line bearing 122°T from the intersection of the South Carolina-North Carolina boundary and the sea to the outermost extent of the EEZ; thence westerly along a line bearing 122°T to the coast.

PART 26—VESSEL BRIDGE-TO-BRIDGE RADIOTELEPHONE REGULATIONS

14. The authority citation for part 26 continues to read as follows:

Authority: 14 U.S.C. 2; 33 U.S.C. 1201-1208; 49 CFR 1.45(b), 1.46; Rule 1, International Regulations for the Prevention of Collisions at Sea.

§ 26.08 [Amended]

15. In § 26.08, in both paragraphs (a) and (c), remove the words “Marine Safety and Environmental Protection” and add, in their places, the words “Marine Safety, Security and Environmental Protection”.

PART 81—72 COLREGS: IMPLEMENTING RULES

16. The authority citation for part 81 continues to read as follows:

Authority: 33 U.S.C. 1607; E.O. 11964; 49 CFR 1.46.

§ 81.18 [Amended]

17. In § 81.18, in paragraph (b), remove the words “Marine Safety and Environmental Protection” and add, in their place, the words “Marine Safety, Security and Environmental Protection”.

PART 89—INLAND NAVIGATION RULES: IMPLEMENTING RULES

18. The authority citation for part 89 continues to read as follows:

Authority: 33 U.S.C. 2071; 49 CFR 1.46(n)(14).

§ 89.18 [Amended]

19. In § 89.18, in paragraph (a), remove the words “Marine Safety and Environmental Protection” and add, in their place, the words “Marine Safety, Security and Environmental Protection”.

PART 110—ANCHORAGE REGULATIONS

20. The authority citation for part 110 continues to read as follows:

Authority: 33 U.S.C. 471, 1221 through 1236, 2030, 2035, 2071; 49 CFR 1.46 and 33 CFR 1.05-1(g).

21. In § 110.236, revise paragraph (a) to read as follows:

§ 110.236 Pacific Ocean Off Barbers Point, Island of Oahu, Hawaii: Offshore pipeline terminal anchorages.

(a) The anchorage grounds—(1) Anchorage A. The waters within an area described as follows: A circle of 1,000 feet radius centered at latitude 21°17′43.6″ N., longitude 158°07′36.1″ W. (Datum NAD 83)

(2) Nonanchorage area A. The waters extending 300 feet on either side of a line bearing 059° from anchorage A to the shoreline at latitude 21°18′10.6″ N., longitude 158°06′47.1″ W. (Datum NAD 83)

(3) Anchorage B. The waters enclosed by a line beginning at latitude 21°16′20.1″ N., longitude 158°04′59.1″ W.; thence to latitude 21°15′52.5″ N., longitude 158°05′7″ W.; thence to latitude 21°15′59.7″ N., longitude 158°05′35.9″ W.; thence to latitude 21°16′27.4″ N., longitude 158°05′28″ W.; thence to the point of beginning. (Datum NAD 83)

(4) Nonanchorage area B. The waters extending 300 feet on either side of a line bearing 334.5° from anchorage B to the shoreline at latitude 21°17′39.1″ N., longitude 158°06′03.2″ W. (Datum NAD 83)

(5) Anchorage C. The waters enclosed by a line beginning at latitude 21°16′46.6″ N., longitude 158°04′29.1″ W.; thence to latitude 21°16′46.6″ N., longitude 158°04′02.1″ W.; thence to latitude 21°16′32.6″ N., longitude 158°04′02.1″ W.; thence to latitude 21°16′32.6″ N., longitude 158°04′29.1″ W.; thence to the point of beginning. (Datum NAD 83)

(6) Nonanchorage area C. The waters extending 300 feet on either side of a line bearing 306° from anchorage C to the shoreline at latitude 21°17′42.6″ N., longitude 158°05′57.9″ W. (Datum NAD 83)

(7) Anchorage D. The waters enclosed by a line beginning at latitude 21°17′48.6″ N., longitude 158°07′10.1″ W.; thence to latitude 21°17′44.6″ N., longitude 158°07′06.1″ W.; thence to latitude 21°17′37.6″ N., longitude 158°07′14.1″ W.; thence to latitude 21°17′41.6″ N., longitude 158°07′18.1″ W.; thence to the point of beginning. (Datum NAD 83)

* * * * *

§ 110.237 [Amended]

22. In § 110.237, paragraph (a), remove the words ″21°57′02″ N., longitude 159°41′33″ W. (Datum OHD)” and in their place add the words ″21°56′50.7″ N., longitude 159°41′22.9″ W. (Datum NAD 83)”.

PART 117—DRAWBRIDGE OPERATION REGULATIONS

23. The authority citation for part 117 continues to read as follows:

Authority: 33 U.S.C. 499; 49 CFR 1.46; 33 CFR 1.05-1(g); section 117.255 also issued under the authority of Pub. L. 102-587, 106 Stat. 5039.

§ 117.1041 [Amended]

24. In § 117.1041, paragraph (a)(2), remove the words “draws of the Fourteenth (Sixteenth) Avenue South” and add, in their place, the words “draw of the South Park”, and in paragraph (b)(4), remove the words “Fourteenth Avenue South” and add, in their place, the words “South Park highway”.

PART 120—SECURITY OF PASSENGER VESSELS

25. The authority citation for part 120 continues to read as follows:

Authority: 33 U.S.C. 1231; 49 CFR 1.46.

§ 120.309 [Amended]

26. In § 120.309, remove the words “Marine Safety and Environmental Protection” and add, in their place, the words “Marine Safety, Security and Environmental Protection”.

PART 127—WATERFRONT FACILITIES HANDLING LIQUFIED NATURAL GAS AND LIQUIFIED HAZARDOUS GAS

27. The authority citation for part 127 continues to read as follows:

Authority: 33 U.S.C. 1231; 49 CFR 1.46.

§ 127.015 [Amended]

28. In § 127.015, in both paragraphs (c)(1) and (d), remove the words “Marine Safety and Environmental Protection” and add, in their places, the words “Marine Safety, Security and Environmental Protection”.

PART 128—SECURITY OF PASSENGER TERMINALS

29. The authority citation for part 128 continues to read as follows:

Authority: 33 U.S.C. 1231; 49 CFR 1.46.

§ 128.120 [Amended]

30. In § 128.120(a), remove “(G-MES)” and add, in its place, “(G-MSE)”.

PART 148—GENERAL

31. The authority citation for part 148 continues to read as follows:

Authority: Secs. 5(a), 5(b), Pub. L. 93-627, 88 Stat. 2131 (33 U.S.C. 1504(a), (b)); 49 CFR 1.46(s).

§ 148.211 [Amended]

32. In § 148.211, remove the words “Marine Safety and Environmental Protection” and add, in their place, the words “Marine Safety, Security and Environmental Protection”.

§ 148.217 [Amended]

33. In § 148.217, in paragraph (a), remove the words “Marine Safety and Environmental Protection” and add, in their place, the words “Marine Safety, Security and Environmental Protection”.

PART 151—VESSELS CARRYING OIL, NOXIOUS LIQUID SUBSTANCES, GARBAGE, MUNICIPAL OR COMMERCIAL WASTE, AND BALLAST WATER

* * * * *

Subpart B—Transportation of Municipal and Commercial Waste

34. The authority citation for part 151 subpart B continues to read as follows:

Authority: 33 U.S.C. 2602; 49 CFR 1.46.

§ 151.1021 [Amended]

35. In § 151.1021, in both paragraphs (b)(1) and (c), remove the words “Marine Safety and Environmental Protection” and add, in their places, the words “Marine Safety, Security and Environmental Protection”.

Subpart D—Ballast Water Management for Control of Nonindigenous Species in Waters of the United States

36. The authority citation for part 151 subpart D continues to read as follows:

Authority: 16 U.S.C. 4711; 49 CFR 1.46.

§ 151.2041 [Amended]

37. In § 151.2041, in paragraph (a), remove the words “Marine Safety and Environmental Protection” and add, in their place, the words “Marine Safety, Security and Environmental Protection”.

PART 153—CONTROL OF POLLUTION BY OIL AND HAZARDOUS SUBSTANCES, DISCHARGE REMOVAL

38. The authority citation for part 153 continues to read as follows:

Authority: 14 U.S.C. 633; 33 U.S.C. 1321; 42 U.S.C. 9615; E.O. 12580, 3 CFR, 1987 Comp. p. 193; E.O. 12777, 3 CFR, 1991 Comp., p. 351; 49 CFR 1.45 and 1.46.

§ 153.103 [Amended]

39. In § 153.103, in paragraph (d), remove the words “Marine Safety and Environmental Protection” and add, in their place, the words “Marine Safety, Security and Environmental Protection”.

PART 154—FACILITIES TRANSFERRING OIL OR HAZARDOUS MATERIAL IN BULK

40. The authority citation for part 154 continues to read as follows:

Authority: 33 U.S.C. 1231, 1321(j)(1)(C), (j)(5), (j)(6), and (m)(2); sec. 2, E.O. 12777, 56 FR 54757; 49 CFR 1.46. Subpart F is also issued under 33 U.S.C. 2735.

§ 154.108 [Amended]

41. In § 154.108, in both paragraphs (a) and (d), remove the words “Marine Safety and Environmental Protection” and in their places add the words “Marine Safety, Security and Environmental Protection”.

§ 154.822 [Amended]

42. In § 154.822(c), replace the words, “12.7 millimeters (1½ in.)” with the words, “12.7 millimeters (½ in.)”.

PART 155—OIL OR HAZARDOUS MATERIAL POLLUTION PREVENTION REGULATIONS FOR VESSELS

43. The authority citation for part 155 continues to read as follows:

Authority: 33 U.S.C. 1231, 1321(j); 46 U.S.C. 3715, 3719; sec. 2, E.O. 12777, 56 FR 54757, 3 CFR, 1991 Comp., p. 351; 49 CFR 1.46; 1.46(iii). Sections 155.110-155.130, 155.350-155.400, 155.430, 155.440, 155.470, 155.1030(j) and (k), and 155.1065(g) also issued under 33 U.S.C. 1903(b); and §§ 155.1110-155.1150 also issued under 33 U.S.C. 2735.

§ 155.1065 [Amended]

44. In § 155.1065, in paragraph (h), remove the words “Marine Safety and Environmental Protection” and add, in their place, the words “Marine Safety, Security and Environmental Protection”.

§ 155.1070 [Amended]

45. In § 155.1070, in paragraph (f), remove the words “Marine Safety and Environmental Protection” and add, in their place, the words “Marine Safety, Security and Environmental Protection”.

PART 156—OIL AND HAZARDOUS MATERIAL TRANSFER OPERATIONS

46. The authority citation for part 156 continues to read as follows:

Authority: 33 U.S.C. 1231, 1321(j)(1)(C) and (D); 46 U.S.C. 3703a. Subparts B and C are also issued under 46 U.S.C. 3715.

§ 156.110 [Amended]

47. In § 156.110, in both paragraphs (a) and (d), remove the words “Marine Safety and Environmental Protection” and in their places add the words “Marine Safety, Security and Environmental Protection”.

§ 156.210 [Amended]

48. In § 156.210, in paragraph (a)(2), remove the semicolon and word “and” at the end of the paragraph, and add in their place “;”, and in paragraph (a)(3), remove the word “chapter” and the period at the end of the paragraph, and add in their place the words “chapter; and”.

PART 157—RULES FOR THE PROTECTION OF THE MARINE ENVIRONMENT RELATING TO TANK VESSELS CARRYING OIL IN BULK

49. The authority citation for part 157 continues to read as follows:

Authority: 33 U.S.C. 1903; 46 U.S.C. 3703, 3703a (note); 49 CFR 1.46. Subparts G, H, and I are also issued under section 4115(b), Pub. L. 101-380, 104 Stat. 520; Pub. L. 104-55, 109 Stat. 546.

§ 157.06 [Amended]

50. In § 157.06, in the first, third, and fourth sentences of paragraph (c), and in paragraph (d), remove the words “Marine Safety and Environmental Protection” and in their places add the words “Marine Safety, Security and Environmental Protection”.

§ 157.306 [Amended]

51. In § 157.306, in paragraph (a), remove the words “Marine Safety and Environmental Protection” and in their places add the words “Marine Safety, Security and Environmental Protection”.

PART 158—RECEPTION FACILITIES FOR OIL, NOXIOUS LIQUID SUBSTANCES, AND GARBAGE

52. The authority citation for part 158 continues to read as follows:

Authority: 33 U.S.C. 1903(b); 49 CFR 1.46.

§ 158.190 [Amended]

53. In § 158.190, in both paragraphs (c)(1) and (d), remove the words “Marine Safety and Environmental Protection” and in their places add the words “Marine Safety, Security and Environmental Protection”.

PART 159—MARINE SANITATION DEVICES

54. The authority citation for part 159 continues to read as follows:

Authority: Sec. 312(b)(1), 86 Stat. 871 (33 U.S.C. 1322(b)(1)); 49 CFR 1.45(b) and 1.46(l) and (m).

§ 159.121 [Amended]

55. In § 159.121, in paragraph (d), replace the word “miligrams” with the word “milligrams”.

PART 160—PORTS AND WATERWAYS SAFETY—GENERAL

56. The authority citation for part 160 continues to read as follows:

Authority: 33 U.S.C. 1223, 1231; 49 CFR 1.46. Subpart D is also issued under the authority of 33 U.S.C. 1225 and 46 U.S.C. 3715.

§ 160.7 [Amended]

57. In § 160.7, in the first, third, fifth, sixth, and seventh sentences of paragraph (c), remove the words “Marine Safety and Environmental Protection” and in their places add the words “Marine Safety, Security and Environmental Protection”.

PART 164—NAVIGATION SAFETY REGULATIONS

58. The authority citation for part 164 continues to read as follows:

Authority: 33 U.S.C. 1223, 1231; 46 U.S.C. 2103, 3703; 49 CFR 1.46. Sec. 164.13 also issued under 46 U.S.C. 8502. Sec. 164.61 also issued under 46 U.S.C. 6101.

§ 164.03 [Amended]

59. In § 164.03(a), replace “(G-MOV)” with “(G-MWV)”.

PART 165—REGULATED NAVIGATION AREAS AND LIMITED ACCESS AREAS

60. The authority citation for part 165 is revised to read as follows:

Authority: 33 U.S.C. 1231; 50 U.S.C. 191; 33 CFR 1.05-1(g), 6.04-1, 6.04-6, and 160.5; 49 CFR 1.46.

Dated: June 11, 2002.
Joseph J. Angelo,
Director of Standards, Marine Safety, Security and Environmental Protection.

[FR Doc. 02-15229 Filed 6-17-02; 8:45 am]

BILLING CODE 4910-15-P